DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 26, 2000.

Interested persons are invited to submit written comments regarding the subject matter of the investigations to the Director, Division of Trade Adjustment Assistance, at the address shown below, not later than December 26, 2000.

The petitions filed in this case are available for inspection at the Office of the Director, Division of Trade Adjustment Assistance, Employment and Training Administration, U.S. Department of Labor, Room C-5311, 200 Constitution Avenue, NW., Washington, DC 20210.

Signed at Washington, DC this 27th day of November, 2000.
Edward A. Tomchick,
Director, Division of Trade Adjustment Assistance.

Appendix

Petitions Instituted on 11/27/2000
TA-W | Subject firm (petitioners) | Location | Date of petition | Product(s)
38,346 | Flowserve Corp. (Wrks) | Temecola, CA | 11/15/2000 | Seals.
38,347 | Cold Metal Products Co (IAMAW) | New Britain, CT | 11/09/2000 | Steel Rolling and Slitting.
38,348 | National Spinning Co (Comp) | Washington, NC | 11/13/2000 | Textile Yarns.
38,349 | Dearborn Brass (GMPBA) | Tyler, TX | 11/16/2000 | Plumbing Fixtures.
38,350 | Hill Knitting Mills (Comp) | Richmond Hill, NY | 11/01/2000 | Knits and Welts.
38,351 | Tyco Electronics (Wrks) | Sanford, ME | 11/07/2000 | Electronic Connectors.
38,352 | Mulox, Inc. (Comp) | Macon, GA | 11/13/2000 | Intermediate Bulk Containers.
38,353 | Langston Corp (Wrks) | Cherry Hill, NJ | 11/06/2000 | Machines to Make Corrugated Boxes.
38,354 | Parker Hannifin Corp (USWA) | Lebanon, IN | 11/08/2000 | Resin Bonded Filter Cartridge.
38,355 | LSC Kentucky, LLC (Wrks) | Morganfield, KY | 11/10/2000 | Administrative Functions.
38,356 | Johnson Controls, Inc. (IBEW) | Poteau, OK | 11/09/2000 | Electrical Controls and Panels.
38,357 | Jockey International (Wrks) | Belzoni, MS | 11/09/2000 | Men's Tee Shirts.
38,358 | Tower Automotive (Wrks) | Kalamazoo, MI | 10/30/2000 | Structural Stampings, Welded Assemblies.
38,359 | Johns Manville Int'l (Comp) | Corona, CA | 11/08/2000 | Flexglass.
38,360 | Georgia Pacific (PACE) | Baileyville, ME | 11/07/2000 | Oriented Strand Boards.
38,361 | Don Shapiro/Action West (Wrks) | El Paso, TX | 11/13/2000 | Jeans.
38,362 | LTV Steel (USWA) | Cleveland, OH | 11/14/2000 | Steel.
38,363 | Pratt and Whitney (IAMAW) | Middleton, CT | 11/03/2000 | Aircraft Engine Turbines.
38,364 | Johnson and Johnson Med (Comp) | El Paso, TX | 11/08/2000 | Disposables Medical Products.
38,365 | Agrilink Foods (Wrks) | Alamo, TX | 11/13/2000 | Frozen Foods.
38,366 | Bend Millwork Co. (Comp) | Bend, OR | 11/07/2000 | Wood Mouldings and Millwork.
38,367 | Key Industries, Inc. (Comp) | Erin, TN | 11/14/2000 | Shirts.
38,368 | Crown Pacific (IAMAW) | Coeurd'Alene, ID | 11/13/2000 | Framing Lumber.
38,369 | Dun and Bradstreet (Wrks) | Parsippany, NJ | 11/03/2000 | Software.
38,370 | A.O. Smith Electrical (Comp) | Altavista, VA | 11/16/2000 | Electric Meters.

[FR Doc. 00-31811 Filed 12-13-00; 8:45 am]

BILLING CODE 4510-30-M